DEPARTMENT OF THE TREASURY

Internal Revenue Service

Proposed Collection; Comment Request for Information Collection Tools Relating to the Request for a Copy of Exempt or Political Organization IRS Form, Application, or Letter

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning information collection requirements related to the request for a copy of exempt or political organization IRS form, application, or letter.

DATES: Written comments should be received on or before March 24, 2025 to be assured of consideration.

ADDRESSES: Direct all written comments to Andres Garcia, Internal Revenue Service, Room 6526, 1111 Constitution Avenue NW, Washington, DC 20224, or by email to pra.comments@irs.gov. Include OMB control number 1545-0495 or Request for a Copy of Exempt or Political Organization IRS Form, Application, or Letter, in the subject line of the message.

FOR FURTHER INFORMATION CONTACT: Requests for additional information or copies of the form(s) should be directed to Kerry Dennis at (202) 317-5751, or at Internal Revenue Service, Room 6526, 1111 Constitution Avenue NW, Washington DC 20224, or through the internet, at Kerry.L.Dennis@irs.gov.

SUPPLEMENTARY INFORMATION:

Title: Request for a Copy of Exempt or Political Organization IRS Form, Application, or Letter.

OMB Number: 1545-0495.

Form Number(s): 4506-A and 4506-B.

Abstract: Internal Revenue Code section 6104 states that if an organization described in section 501(c) or (d) is exempt from taxation under section 501(a) for any taxable year, the application for exemption is open for public inspection. This includes all supporting statements, any letter or other documents issued by the IRS concerning the application, and certain annual returns of the organization. Form 4506-A, Request for Public Inspection or Copy of Exempt or Political Organization IRS Form and Form 4506-B, Request for a Copy of Exempt Organization IRS Application or Letter, is used to request public inspection or a copy of these forms.

Current Actions: There are no changes to the forms, however, the agency has updated the estimated number of respondents based on the most recent filing data. The agency estimates 8,000 more respondents for a total of 27,000 respondents, increasing overall burden by 6,790 (19,400 hours to 26,190 hours). However, the estimated time per response remains the same at 58 minutes as there have been no changes to the forms.

Type of Review: Extension of a currently approved collection.

Affected Public: Individuals or households, and businesses or other for-profit organizations, not-for-profit, institutions, farms, and Federal, state, local or tribal governments.

Estimated Number of Respondents: 27,000.

Estimated Time per Response: 58 minutes.

Estimated Total Annual Burden Hours: 26,190 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: January 16, 2025.
Kerry L. Dennis,
Tax Analyst.

[FR Doc. 2025-01572 Filed 1-22-25; 8:45 am]

BILLING CODE 4830-01-P